NATIONAL CREDIT UNION ADMINISTRATION

Sunshine Act Meeting

TIME AND DATE: 10 a.m., Thursday, February 17, 2011.

PLACE: Board Room, 7th Floor, Room 7047. 1775 Duke Street (All visitors must use Diagonal Road Entrance) Alexandria, VA 22314-3428.

STATUS: Open.

MATTERS TO BE CONSIDERED: 1. Final Interpretive Ruling and Policy Statement 11-02, Corporate Federal Credit Union Chartering Guidelines.

2. Proposed Rule, Parts 741 and 751 of NCUA's Rules and Regulations, Incentive-Based Compensation Arrangements.

3. Proposed Rule, Parts 703, 704, 709 and 742 of NCUA's Rules and Regulations, Replacement or Removal of References to Credit Ratings in NCUA Regulations.

4. Interest Rate Ceiling Determination.

5. Insurance Fund Report.

RECESS: 11:15 a.m.

TIME AND DATE: 11:30 a.m., Thursday, February 17, 2011.

PLACE: Board Room, 7th Floor, Room 7047, 1775 Duke Street, Alexandria, VA 22314-3428.

STATUS: Closed.

MATTERS TO BE CONSIDERED: 1. Creditor Claim and Insurance Appeals (4). Closed pursuant to some or all of the following: Exemptions (4) and (6).

2. Consideration of Supervisory Activities (2). Closed pursuant to some or all of the following: Exemptions (5), (8), (9)(A)(ii) and 9(B).

FOR FURTHER INFORMATION CONTACT: Mary Rupp, Secretary of the Board, Telephone: 703-518-6304.

Mary Rupp,
Board Secretary.

[FR Doc. 2011-3381 Filed 2-10-11; 4:15 pm]

BILLING CODE P